OFFICE OF THE UNITED STATES TRADE REPRESENTATIVE

Effective Date of Modifications to Rules of Origin of the United States-Morocco Free Trade Agreement

AGENCY: Office of the United States Trade Representative.

ACTION: Notice.

SUMMARY: In December 2018, the President modified the rules of origin for certain goods of Morocco under the United States-Morocco Free Trade Agreement (USMFTA). This notice announces the effective date for those modifications.

DATES: This notice is applicable on April 1, 2019.

FOR FURTHER INFORMATION CONTACT: Janet Heinzen, Deputy Assistant U.S. Trade Representative for Textiles, at 202-395-6092 or janet.e.heinzen@ustr.eop.gov.

SUPPLEMENTARY INFORMATION: Presidential Proclamation 7971 of December 22, 2005, implemented the USMFTA with respect to the United States. The USMFTA Implementation Act [Pub. L. 108-302, 118 Stat. 1103] incorporated the tariff modifications and rules of origin necessary or appropriate to carry out the USMFTA in the Harmonized Tariff Schedule of the United States (HTSUS). Section 203 of the USMFTA Implementation Act provides rules for determining whether goods imported into the United States originate in the territory of Morocco and, thus, are eligible for the tariff and other treatment contemplated under the USMFTA. It also authorizes the President to proclaim, as a part of the HTSUS, the rules of origin set out in the USMFTA, and to modify previously proclaimed rules of origin, subject to the consultation and layover requirements of section 104 of the Act.

In 2015 and 2016, the Government of Morocco submitted requests to modify certain textile and apparel rules of origin based on commercial availability of specific inputs. Following public comment on the proposed rules changes, the United States and Morocco reached agreement to modify certain rules of origin. Pursuant to the USMFTA Implementation Act, the International Trade Commission conducted an economic impact review and concluded that the impact on U.S. imports, exports, and production of the proposed modifications would be negligible. The Industry Trade Advisory Committee on Textiles and Clothing did not object to the proposed modifications. Congress also did object during the consultation and layover process.

In Proclamation 9834 of December 21, 2018, the President determined pursuant to section 203 of the USMFTA Implementation Act, that the subject modifications to the HTSUS were appropriate and modified general note 27 to the HTSUS with respect to goods of Morocco. The modifications are effective with respect to goods of Morocco entered or withdrawn from warehouse for consumption on the date announced by the United States Trade Representative in the Federal Register.

On March 4, 2019, Morocco notified the United States that it had completed its domestic procedures to give effect to the agreement to change the USMFTA rules of origin for certain apparel goods of specified fabrics with respect to goods of the United States. Subsequently, Morocco and the United States agreed to implement these changes with respect to each other's eligible goods, effective April 1, 2019.

William Jackson,
Assistant U.S. Trade Representative for Textiles, Office of the U.S. Trade Representative.

[FR Doc. 2019-05551 Filed 3-21-19; 8:45 am]

BILLING CODE 3290-F9-P